Memorandum of January 3, 2025

Designation of Officials of the United States Agency for Global Media To Act as Chief Executive Officer

Memorandum for the Chief Executive Officer of the United States Agency for Global Media

By the authority vested in me as President by the Constitution and the laws of the United States of America, including the Federal Vacancies Reform Act of 1998, as amended, 5 U.S.C. 3345 et seq. (the “Act”), it is hereby ordered that:

Section 1. Order of Succession. Subject to the provisions of section 2 of this memorandum, and to the limitations set forth in the Act, the following officials of the United States Agency for Global Media (USAGM), in the order listed, shall act as and perform the functions and duties of the office of the Chief Executive Officer of USAGM (CEO) during any period in which the CEO has died, resigned, or otherwise become unable to perform the functions and duties of the office of CEO:

(a) Director, Voice of America;

(b) General Counsel;

(c) Chief Financial Officer; and

(d) Chief Management Officer.

Sec. 2. Exceptions. (a) No individual who is serving in an office listed in section 1 of this memorandum in an acting capacity shall, by virtue of so serving, act as CEO pursuant to this memorandum.

(b) No individual who is serving in an office listed in section 1 of this memorandum shall act as CEO unless that individual is otherwise eligible to so serve under the Act.

(c) Notwithstanding the provisions of this memorandum, the President retains discretion, to the extent permitted by law, to depart from this memorandum in designating an acting CEO.

Sec. 3. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) You are authorized and directed to publish this memorandum in the Federal Register.

THE WHITE HOUSE,

Washington, January 3, 2025

[FR Doc. 2025-00674

Filed 1-10-25; 8:45 am]

Billing code 8610-01-P